ENVIRONMENTAL PROTECTION AGENCY

[PA-HQ-OPPT-2019-0075; FRL-9992-78]

Certain New Chemicals; Receipt and Status Information for April 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 04/01/2019 to 04/30/2019.

DATES: Comments identified by the specific case number provided in this document must be received on or before August 5, 2019.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 04/01/2019 to 04/30/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the date the notice passed an initial screening by EPA staff, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 04/01/2019 to 04/30/2019
Case No. | Version | Received date | Manufacturer | Use | Chemical substance
J-19-0021 | 1 | 4/3/2019 | CBI | (S) Ethanol production | (G) Saccharomyces cerevisiae strain.
J-19-0022 | 1 | 4/3/2019 | CBI | (S) Ethanol production | (G) Saccharomyces cerevisiae strain.
P-16-0326A | 4 | 4/1/2019 | Firmenich, Inc | (G) As part of a fragrance formula | (S) Propanoic acid, 2,2-dimethyl-,-1-methyl-2-(1-methylethoxy)-2-oxoethyl ester.
P-16-0425A | 3 | 3/25/2019 | CBI | (G) A chemical reactant used in manufacturing a polymer | (G) Amino-silane.
P-16-0429A | 4 | 4/23/2019 | CBI | (G) Universal tint paste resin having high solids | (G) Endcapped polysiloxane.
P-16-0470A | 2 | 3/29/2019 | Firmenich, Inc | (G) As part of a fragrance formula | (S) 2,7-Nonadien-4-ol, 4,8-dimethyl-.
P-17-0152A | 7 | 3/27/2019 | CBI | (G) Additive in-home care products | (G) Poly-(2-methyl-1-oxo-2-propen-1-yl) ester with Ethanaminium, N,N,N-trialkyl, chloride and methoxypoly(oxy-1,2-ethanediyl).
P-17-0220A | 3 | 3/26/2019 | CBI | (G) Additive, open, non-dispersive use | (G) 2-Oxepanone, reaction products with alkylenediamine-alkyleneimine polymer, 2-[[(2-alkyl)oxy]alkyl]oxirane and tetrahydro-2H-pyran-2-one.
P-17-0239A | 5 | 3/26/2019 | CBI | (G) Adhesive for open non-descriptive use | (G) Substituted carboxylic acid, polymer with 2,4-diisocyanato-1-methylbenzene, hexanedioic acid, alpha-hydro-omega-hydroxypoly[oxy(methyl-1,2-ethanediyl)], 1,1′-methylenebis[4-isocyanatobenzene], 2,2′-oxybis[ethanol], 1,1′-oxybis[2-propanol] and 1,2-propanediol.
P-17-0245A | 6 | 4/9/2019 | CBI | (G) Adhesive for open, non-dispersive use | (G) Unsaturated polyfluoro ester.
P-17-0249A | 5 | 4/22/2019 | CBI | (G) Open, dispersive use | (G) Acid-neutralized, amine-functional acrylic polymer.
P-17-0253A | 3 | 4/16/2019 | CBI | (G) The polymer will be produced and sold to the customer in liquid form. Customers will then blend the polymer to enhance formulation solubilization Properties | (G) Oxirane, 2-methyl-, polymer with oxirane, methyl 2-(substituted carbomonocycle isoquinolin-2(3H)-yl) propyl ether.
P-17-0380A | 3 | 4/22/2019 | CBI | (G) Open, non-dispersive use | (G) Amine- and hydroxy-functional acrylic polymer.
P-17-0381A | 3 | 4/22/2019 | CBI | (G) Open, non-dispersive use | (G) Hydroxy acrylic polymer, methanesulfonates.
P-17-0396A | 4 | 4/5/2019 | CBI | (S) Intermediate for a polyurethane catalyst | (G) Aminoalkylated imidazole.
P-18-0010A | 3 | 4/5/2019 | CBI | (S) Polyurethane catalyst | (G) Aminoalkylated imidazole, N-Me derivs.
P-18-0084A | 5 | 4/2/2019 | ShayoNano USA, Inc | (S) Additive for paints and coatings | (S) Silicon zinc oxide.
P-18-0086A | 2 | 4/5/2019 | CBI | (S) Intermediate for a polyurethane catalyst | (G) Propanenitrile, polyalkylpolyamine.
P-18-0091A | 3 | 4/17/2019 | Resinate Materials Group, Inc | (S) Intermediate for use in the manufacture of polymers | (G) Vegetable oil, polymers with diethylene glycol- and polyol- and polyethylene glycol-depolymd. poly(ethylene terephthalate) waste plastics and arylcarboxylic acid anhydride.
P-18-0101A | 5 | 3/22/2019 | CBI | (G) Industrial | (G) Pentaerythritol, mixed esters with linear and branched fatty acids.
P-18-0122A | 5 | 4/10/2019 | Polymer Ventures, Inc | (G) Paper additive | (G) Alkylamide, polymer with alkylamine, formaldehyde, and polycyanamide, alkyl acid salt.
P-18-0151A | 4 | 4/1/2019 | Struers, Inc | (S) A curing agent for curing epoxy systems | (S) Formaldehyde, reaction products with 1,3-benzenedimethanamine and p-tert-butylphenol.
P-18-0154A | 6 | 4/5/2019 | CBI | (G) Crosslinking agent for coatings | (G) Isocyanic acid, polyalkylenepolycycloalkylene ester, 2-alkoxy alkanol and 1-alkoxy alkanol and alkylene diol blocked.
P-18-0168A | 4 | 3/22/2019 | CBI | (G) Color additive | (G) Alkoxylated triaryl methane.
P-18-0174A | 2 | 4/16/2019 | CBI | (G) Oilfield applications | (G) Enzyme.
P-18-0188A | 2 | 4/11/2019 | Allnex USA, Inc | (S) Adhesion and scratch resistance | (G) Alkyl substituted alkenoic acid, alkyl ester, polymer with alkanediol alkyl-alkenoate, reaction products with alkenoic acid, isocyanato-(isocyanatoalkyl)-alkyl substituted carbomonocycle and substituted alkanediol.
P-18-0228A | 3 | 3/26/2019 | CBI | (G) Tackifier | (G) Branched alkenyl acid, alkyl ester, homopolymer.
P-18-0229A | 3 | 3/26/2019 | CBI | (G) Tackifier | (G) Modified branched alkenyl acid, alkyl ester, homopolymer.
P-18-0237A | 7 | 3/23/2019 | CBI | (G) Use in print resins | (G) Alkanediol, polymer with 5-isocyanato-1-(isocyanatomethyl)-1,3,3-trimethylcyclohexane, alkylaminoalkyl methacrylate-, and dialkylheteromonocycle-blocked.
P-18-0258A | 3 | 4/10/2019 | CBI | (G) Copolyamide for Packaging Films; (G) Copolyamide for Monofilament; (G) Copolyamide for Molding Parts | (G) Dioic acids, polymers with caprolactam and alkyldiamines.
P-18-0259A | 3 | 4/10/2019 | CBI | (G) Copolyamide for Packaging Films; (G) Copolyamide for Monofilament; (G) Copolyamide for Molding Parts | (G) Fatty acids, dimers, hydrogenated, polymers with caprolactam and alkyl diamine.
P-18-0266A | 3 | 4/9/2019 | Sasol Chemicals (USA), LLC | (S) Additive, Rubber and Tire manufacturing; Additive, Casting Wax; Thread Lubricant | (S) Alkanes, C20-45 branched and linear.
P-18-0281A | 2 | 4/17/2019 | CBI | (G) Electrolyte additive | (G) Cyclic sulfate.
P-18-0299A | 2 | 4/8/2019 | CBI | (G) Ink additive | (G) Alkenoic acid, alkyl-, polymers with alkyl methacrylate, cycloalkyl methacrylate, alkylene dimethacrylate, and polyalkene glycol hydrogen sulfate [(branched alkyloxy)alkyl]-(alkenyloxy)alkyl ethers ammonium salts, metal salts.
P-18-0302A | 3 | 4/5/2019 | CBI | (G) Chemical intermediate | (S) D-glucaric acid, ammonium salt (1:1).
P-18-0305A | 2 | 4/23/2019 | CBI | (G) Component of ink | (G) Alkenoic acid, alkyl-,alkyl ester, polymer with alkyl alkenoate, substituted heteromonocycycle, substituted carbomonocycle, substituted alkanediol and alkenoic acid, alkali metal salt.
P-18-0312A | 4 | 3/29/2019 | CBI | (G) Dispersing agent | (G) Formaldehyde, polymer with 2-phenoxyalkanol and .alpha.-phenyl-.omega. hydroxypoly(oxy-1,2-alkylnediyl), dihydrogen phosphate 2-phenoxyalkyl hydrogen phosphate, alkaline salt.
P-18-0326A | 3 | 3/26/2019 | CBI | (G) Chemical Intermediate | (G) Alkanoic acid, alkyl ester, manuf. of, byproducts from, distn. residues.
P-18-0331A | 2 | 4/17/2019 | Evonik Corporation | (S) Substrate wetting and anti-cratering additive for inks | (S) Siloxanes and Silicones, di-Me, 3-(4-hydroxy-3-methoxyphenyl)propyl Me, ethoxylated propoxylated.
P-18-0359A | 2 | 3/28/2019 | CBI | (G) Molded or extruded items | (G) Methoxy Vinyl Ether-Vinylidene Fluoride polymer.
P-18-0378A | 3 | 4/24/2019 | CBI | (G) Industrial coatings additive | (G) Acrylic and Methacrylic acids and esters, polymer with alkenylimidazole, alkyl polyalkylene glycol, alkenylbenzene, alkylbenzeneperoxoic acid ester initiated, compds. with Dialkylaminoalkanol.
P-18-0380A | 5 | 3/26/2019 | CBI | (G) Automotive brake parts (contained use) | (G) Butanoic acid ethyl amine.
P-18-0383A | 3 | 3/27/2019 | CBI | (G) Coatings and inks for commercial use | (G) Dialkyl-alkanediamine, polymer with [(oxo-alkenyl)oxy]poly(oxy-alkanediyl)ether with bis(hydroxyalkyl)-alkanediol.
P-18-0385A | 3 | 4/11/2019 | Colonial Chemical, Inc | (S) Liquid Laundry | (S) D-Glucopyranose, oligomeric, Bu glycosides polymers with epichlorohydrin, 2-hydroxy-3-sulfopropyl ethers, sodium salts.
P-18-0398A | 2 | 4/5/2019 | CBI | (S) Intermediate | (S) 1,2-Ethanediamine, N-(1-methylethyl)-N-[2-[(1-methylethyl)amino]ethyl]-.
P-18-0402A | 4 | 4/24/2019 | CBI | (G) Fuel additive | (G) Phenol, alkanepolyolbis(heteroalkylene)bis-, polyalkylene derivs.
P-18-0404A | 6 | 3/25/2019 | CBI | (S) The substance is part of a mixture with other amines to act as a curative for a 2-part epoxy formulation. The intended use is the manufacture of wind turbine blades. During manufacture of the blades this substance forms part of the in-mold coating system which is applied to the blade mold and further laminated with glass (or carbon) reinforced fibres (GRP). The manufactured structure is then ‘cured' using heat and a chemical reaction occurs forming a solid composite structure. The PMN substance is reacted during the cure process into the solid plastic matrix and therefore not present in the finished cured part Use of this product will enhance the life of renewable energy source provided by wind turbines therefore contributing to the reduction in fossil fuel usage | (G) Alkylmultiheteroatom,2-functionalisedalkyl-2-hydroxyalkyl-, polymer with alkylheteroatom-multialkylfunctionalised carbomonocyleheteroatom and multiglycidylether difunctionalised polyalkylene glycol.
P-18-0405A | 3 | 4/4/2019 | CBI | (G) Adhesive | (S) Phenol, 4,4′-(1-methylethylidene)bis-, polymer with 3,6,9,12-tetraoxatetradeca-1,13-diene, glycidyl ether.
P-18-0406A | 3 | 3/28/2019 | CBI | (G) Initiator | (G) Formaldehyde, polymer with alkyl aryl ketones.
P-18-0407A | 2 | 4/5/2019 | CBI | (S) Polyurethane catalyst | (S) 1,2-Ethanediamine, N,N-dimethyl-N-(1-methylethyl)-N-[2-[methyl(1-methylethyl)amino]ethyl]-.
P-19-0012A | 10 | 4/29/2019 | CBI | (S) Resin component for the polyisocyanurate; Resin component in specialty polyurethane kits and systems for aerospace and military applications | (G) Benzenedicarboxylic acid, rection products with isobenzofurandione and diethylene glycol.
P-19-0020A | 4 | 4/29/2019 | CBI | (G) Lubricating additive | (G) Alkylphenol, reaction products with carbon dioxide, distn. residues from manuf. of alkylphenol derivs. and calcium alkylphenol derivs.
P-19-0024A | 2 | 4/8/2019 | Sales And Distribution Services, Inc | (S) Hot Mix Asphalt Application: The PMN compound will be used as asphalt additive for hot mix (HMA) as well as cold mix (CMA) asphalt applications; Asphalt Emulsion Application: The PMN substance is water soluble and can be used as an asphalt emulsion in road construction; Waterproofing Application: The PMN substance is expected to be used in waterproofing of building materials, including cementitious material, masonry, concrete, plaster, bricks, etc | (S) Silsesquioxanes, 3-(dimethyloctadecylammonio)propyl Me Pr, polymers with silicic acid (H4Si04) tetra-Et ester, (2-hydroxyethoxy)- and methoxyterminated, chlorides.
P-19-0027A | 4 | 3/26/2019 | Allnex USA, Inc | (S) The PMN substance is an isolated intermediate incorporated as a component in several allnex coating resin products that are only applied by Cathodic Electrodeposition (CED) and used as additives for corrosion protection | (G) Substituted Carbomoncycle, polymer with haloalkyl substituted heteromonocycle, dialkyl-alkanediamine and hydro-hydroxypoly[oxy(alkylalkanediyl)], reaction products with metal oxide and dialkanolamine, acetates (salts).
P-19-0030A | 5 | 4/24/2019 | CBI | (G) Water Systems | (G) Triethanolamine modified Phosphinicocarboxylates, sodium salts.
P-19-0031A | 6 | 3/27/2019 | CBI | (S) Curing agent for epoxy coating systems | (G) Phenol, 4,4′-(1-methylethylidene)bis-, polymer with formaldehyde, 2-(chloromethyl)oxirane, alpha-hydro-omega-hydroxypoly(oxy-1,2-ethanediyl), and polyamines.
P-19-0034A | 4 | 4/11/2019 | CBI | (G) Contained use as a component of tires | (G) Metal, bis(2,4-pentanedionato-kO2,kO4)-, (T-4)-.
P-19-0035A | 4 | 3/28/2019 | Firmenich, Inc | (G) Fragrance | (S) Acetamide, 2-(4-methylphenoxy)-N-1H-pyrazol-3-yl-N-(2-thienylmethyl)-.
P-19-0036A | 2 | 3/28/2019 | Ethox Chemicals, LLC | (S) As an additive to polymers for improvement in gas barrier performance | (S) 1,4-Benzenedicarboxylic acid, 1,4-bis(2-phenoxyethyl) ester.
P-19-0045A | 2 | 4/3/2019 | CBI | (G) Component of textile coating | (G) Non-metal tetrakis (hydroxyalkyl)-, halide, polymer with amide oxidized.
P-19-0046A | 2 | 4/24/2019 | Kluber Lubrication North America, L.P | (G) Lubricating agent; Degreasing agent | (S) 1,2,4-Benzenetricarboxylic acid, mixed decyl and octyl trimesters.
P-19-0049A | 3 | 4/3/2019 | Allnex USA, Inc | (G) Isolated intermediate coating resin | (G) Fatty acids, polymers with substituted carbomonocycles, dialkanolamine, alkyl substituted alkanediamine and halo-substituted heteromonocycle, formates (salts).
P-19-0051A | 4 | 4/4/2019 | CBI | (G) UV curable inks | (G) 1,3-Propanediamine, N1,N1-dimethyl-, polymers with alkylene glycol ether with alkyltriol (3:1) mixed acrylates and adipates, and alkylene glycol monoacrylate ether with alkyltriol (3:1).
P-19-0053A | 3 | 4/14/2019 | Wacker Chemical Corporation | (S) Used as a surface treatment, sealant, caulk, and coating for mineral building materials such as concrete, brick, limestone, and plaster, as well as on wood, metal and other substrates. Formulations containing the cross-linker provide release and anti-graffiti properties, water repellency, weather proofing, and improved bonding in adhesive/sealant applications. The new substance is a moisture curing cross-linking agent which binds/joins polymers together when cured. Ethanol is released during cure, and once the cure reaction is complete, the product will remain bound in the cured polymer matrix | (S) 1-Butanamine, N-butyl-N-[(triethoxysilyl)methyl]-.
P-19-0056A | 2 | 4/5/2019 | Neste Oil US, Inc | (G) The PMN substance will be imported as a raw material for manufacturing other aliphatic hydrocarbons | (G) Aliphatic hydrocarbons, C8-20-branched and linear.
P-19-0057A | 2 | 4/5/2019 | CBI | (G) Treatment chemical | (G) Alkanamine, [(Alkoxy)alkoxy]alkyl] alkyl.
P-19-0060A | 2 | 4/5/2019 | Neste Oil US, Inc | (G) The PMN substance will be used as fuel | (G) Aliphatic hydrocarbons, C8-18-branched and linear.
P-19-0061A | 2 | 4/5/2019 | Neste Oil US, Inc | (G) The PMN substance will be used as fuel | (G) Aliphatic hydrocarbons, C16-20-branched and linear.
P-19-0067A | 3 | 4/3/2019 | CBI | (G) On site consumption as a raw material in the production of downstream chemicals; Production of oil soluble corrosion inhibitors; Production of water-soluble corrosion inhibitors | (G) Triglyceride, reactions products with diethylenetriamine.
P-19-0067A | 4 | 4/17/2019 | CBI | (G) On site consumption as a raw material in the production of downstream chemicals; Production of oil soluble corrosion inhibitors; Production of water-soluble corrosion inhibitors | (G) Triglyceride, reactions products with diethylenetriamine.
P-19-0068 | 2 | 4/16/2019 | Dayglo Color Corp | (G) Polymeric Dye Carrier | (G) 1,4-benzenedicarboxylic acid, polymer with diol, 5-amino-1,3,3-trimethylcyclohexanemethanamine, 1,2-ethanediol and urea.
P-19-0069A | 2 | 4/2/2019 | CBI | (G) Curing agent for coatings | (G) Diisocyanatoalkane, homopolymer, di-alkyl malonate- and alkyl acetoacetate-blocked, isoalkyl methylalkyl esters.
P-19-0070A | 2 | 4/3/2019 | CBI | (G) Curing agent for coatings | (G) Oxacyclanone, polymer with diisocyanatoalkane, and alkyl-(substitutedalkyl)-polyol, di-alkyl malonate- and alkyl acetoacetate-blocked, alkyl esters.
P-19-0071A | 2 | 4/2/2019 | CBI | (G) Physical property modifier for polymers | (G) Trimethylolpropane, alkenoic acid, triester.
P-19-0073 | 1 | 3/29/2019 | CBI | (G) Polymer coatings additive—low foaming wetting agent | (G) Propoxylated, ethoxylated alkoxyalkyl ether.
P-19-0073A | 2 | 4/5/2019 | CBI | (G) Polymer coatings additive—low foaming wetting agent | (G) Propoxylated, ethoxylated alkoxyalkyl ether.
P-19-0074 | 2 | 4/19/2019 | CBI | (S) Swelling agent for the dyeing of polyester and blend fibers | (G) Poly(oxyalkylenediyl), carbomonocyclic acid, 2-(aminocarbonyl)-alkyl.
P-19-0075 | 1 | 4/2/2019 | Allnex USA, Inc | (S) The PMN substance is an intermediate incorporated as a component in VIACRYL SC 6841 | (G) Substitued polyalkylenepolycarbomonocycle ester, polymer with dialkanolamine, (hydroxyalkoxy)carbonyl] derivs., (alkoxyalkoxy) alkanol-blocked.
P-19-0075A | 2 | 4/11/2019 | Allnex USA, Inc | (S) The PMN substance is an intermediate incorporated as a component in VIACRYL SC 6841 | (G) Alkenoic acid, alkyl-, (alkylamino)alkyl ester, polymer with alkyl substituted carbomonocycle, substituted-[alkanenitrile]-initiated, formates.
P-19-0076 | 1 | 4/11/2019 | CBI | (G) An ingredient used in the manufacture of photoresist | (G) Sulfonium, bis(dihalo-carbomonocycle) carbomonocycle, salt with dihalo substituted alkyl carbopolycyclic carboxylate (1:1).
P-19-0077 | 2 | 4/22/2019 | CBI | (G) Agricultural | (G) Alkenylamide.
P-19-0078 | 1 | 4/18/2019 | Shin-Etsu Microsi | (G) Polymer for photoresist | (G) Substituted heterocyclic onium compound, salt with 2,2,2-trifluoro-1-(sulfomethyl)-1-(trifluoromethyl)ethyl 3-[(2-methyl-1-oxo-2-propen-1-yl)oxy]tricycle[3.3.1.13,7]decane-1- carboxylate (1:1), polymer with acenaphthylene, 1-ethenyl-4-[(1-ethylcyclopentyl)oxy]benzene and 4-ethenylphenol, di-Me 2,2′-(1,2-diazenediyl)bis[2-methylpropanoate]-initiated.
P-19-0079 | 1 | 4/22/2019 | Shin-Etsu Microsi | (G) Polymer for photoresist | (G) Substituted heterocyclic onium compound, salt with 2,2,2-trifluoro-1-(sulfomethyl)-1-(trifluoromethyl)ethyl 3-[(2-methyl-1-oxo-2-propen-1-yl)oxy]tricyclo[3.3.1.13,7]decane-1- carboxylate (1:1), polymer with acenaphthylene, 1-ethenyl-4-[[1-(1-methylethyl)cyclopentyl]oxy]benzene and 4-ethenylphenol, di-Me 2,2′-(1,2-diazenediyl)bis[2-methylpropanoate]-initiated.
P-19-0080 | 1 | 4/22/2019 | CBI | (G) Hydrocarbon fuel marker dye | (G) Tetra (substituted phenoxy) Phthalocyanine.
* The term `Approved' indicates that a submission has passed a quick initial screen ensuring all required information and documents have been provided with the submission prior to the start of the 90 day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date the NOC passed an initial screening, the date of commencement provided by the submitter in the NOC, a notation of the type of amendment (e.g., amendment to generic name, specific name, technical contact information, etc.) and chemical substance identity.

Table II—NOCs Approved * From 04/01/2019 to 04/30/2019
Case No. | Received date | Commencement date | If amendment, type of amendment | Chemical substance
P-08-0099 | 04/26/2019 | 12/10/2017 |  | (S) 1,4-benzenedicarboxylic acid, polymer with 1,2-ethanediol, 2,5-furandione, 2,2′-oxybis(ethanol) and 1,2-propanediol.
P-12-0579 | 04/25/2019 | 10/20/2014 |  | (S) L-Alaninamide, N-[(phenylmethoxy)carbonyl]glycyl-N-[(1S)-1-formyl-2-(4-hydroxyphenyl)ethyl].
P-13-0410 | 04/25/2019 | 09/02/2015 |  | (S) L-Alaninamide, N-[(phenylmethoxy)carbonyl]glycyl-N-[2-hydroxy-1-[(4-hydroxypheny)methyl]-2-sulfoethyl]-, sodium salt (1:1).
P-16-0192 | 04/12/2019 | 04/09/2019 |  | (S) Polysulfides, bis[3-(triethoxysilyl)propyl], hydrolysis products with silica.
P-16-0222A | 04/10/2019 | 06/26/2016 | Updated CBI substantiation | (G) Alkanedioic acid, polymer with substituted heteromonocycle, AAAA±-hydro-AA-hydroxypoly(oxy-1,2-ethanediyl) ether with substituted alkanediol and substituted bis[carbomonocycle], alkanoate.
P-16-0337A | 04/26/2019 | 03/28/2018 | Updated CBI substantiation | (G) Aliphatic acrylate.
P-16-0338A | 04/12/2019 | 04/23/2017 | Updated CBI substantiation | (G) Xanthylium, (sulfoaryl)-bis [(substituted aryl) amino]-, sulfo derivs., inner salts, metal salts.
P-16-0339A | 04/12/2019 | 04/23/2017 | Updated CBI substantiation | (G) Substituted triazinyl metal salt, diazotized, coupled with substituted pyridobenzimidazolesulfonic acids, substituted pyridobenzimidazolesulfonic acids, diazotized substituted alkanesulfonic acid, diazotized substituted aromatic sulfonate, diazotized substituted aromatic sulfonate, metal salts.
P-16-0577A | 04/17/2019 | 11/09/2017 | Updated CBI substantiation | (G) Alkyl polyamine.
P-17-0326A | 04/09/2019 | 01/16/2018 | Updated CBI substantiation | (G) Allyloxymethylacrylate
P-18-0132 | 04/22/2019 | 04/17/2019 |  | (G) Substituted Benzene, 4-methoxy-2-nitro-5-[2-[(1e)-1-[[(2-methoxyphenyl)amino]carbonyl]-2-oxopropylidene]hydrazinyl]-, sodium salt (1:1).
P-18-0168 | 04/05/2019 | 04/02/2019 |  | (G) Alkoxylated triaryl methane.
P-18-0233A | 04/01/2019 | 02/13/2019 | Updated CBI substantiation | (G) Alkyl alkenoic acid, alkyl ester, telomer with alkylthiol, substituted carbomonocycle, substituted alkyl alkyl alkenoate and hydroxyalkyl alkenoate, tert-butyl alkyl peroxoate-initiated.
P-18-0379 | 04/16/2019 | 04/09/2019 |  | (G) Cashew, nutshell liq., polymer with epichlorohydrin, amines, formaldehyde and glycol.
P-19-0007 | 04/26/2019 | 04/21/2019 |  | (G) Alkenoic acid, alkyl-, hydroxyalkyl ester, polymer with alkyl-alkenoate, alkenylcarbomonocycle, hydroxyalkyl-alkenoate, alkyl substituted alkenoate and heteromonocycle, alkyl substituted peroxoate-initiated, polymers with [substituted alkanenitrile]-initiated acrylic acid-alkane acrylates-alkyl substituted carbomoncycle polymer.
P-19-0008 | 04/17/2019 | 04/17/2019 |  | (G) Substituted polyalkylenepolycarbomonocycle ester, polymer with dialkanolamine, (hydroxyalkoxy)carbonyl] derivs., (alkoxyalkoxy) alkanol-blocked.
P-19-0009 | 04/22/2019 | 04/20/2019 |  | (G) Carbonmonocycles, polymer with haloalkyl substituted heteromonocycle and hydro-hydroxypoly[oxy(alkyl-alkanediyl)], dialkyl-alkanediamineterminated, hydroxyalkylated, acetates (salts).
P-19-0026 | 04/17/2019 | 04/17/2019 |  | (G) Alkanoic acid, compds. with substituted carbomonocycle-dialkyl-alkanediamine-halo substituted heteromonocycle-polyalkylene glycol polymerdialkanolamine reaction products.
P-19-0027 | 04/17/2019 | 04/17/2019 |  | (G) Substituted carbomoncycle, polymer with haloalkyl substituted heteromonocycle, dialkyl-alkanediamine and hydro-hydroxypoly[oxy(alkylalkanediyl)], reaction products with metal oxide and dialkanolamine, acetates (salts).
* The term `Approved' indicates that a submission has passed a quick initial screen ensuring all required information and documents have been provided with the submission.

In Table III of this unit, EPA provides the following information (to the extent such information is not subject to a CBI claim) on the test information that have passed an initial screening by EPA during this time period: The EPA case number assigned to the test information; the date the test information was received by EPA, the type of test information submitted, and chemical substance identity.

Table III—Test Information Received From 04/01/2019 to 04/30/2019
Case No. | Received date | Type of test information | Chemical substance
P-00-0281 | 4/3/2019 | Freshwater AAP Algal Medium, Daphnia Sp. Acute Immobilisation Test (OECD Test Guideline 202), A 96-Hour Static Acute Toxicity Test with The Fathead Minnow (OECD Test Guideline 203), A 96-Hour Toxicity Test with the Freshwater Alga (OECD Test Guideline 201), Analytical method development, and Surface Tension of Aqueous Solutions (OECD Test Guideline 115) | (G) Alkylarylsulfonic acid, sodium salts.
P-11-0063 | 4/3/2019 | Annual Analyte Test Data | (G) Perfluoroalkyl acryalte copolymer.
P-16-0150 | 4/1/2019 | 28-day (Subacute) Inhalation Toxicity Study (OECD 412) | (G) Chlorofluorocarbon.
P-16-0377 | 4/17/2019 | Standard Test Method for Determination of Particles Resulting from the Attrition of Granular Pesticides (ASTM E2316) | (G) Polyester polyol.
P-16-0378 | 4/17/2019 | Standard Test Method for Determination of Particles Resulting from the Attrition of Granular Pesticides (ASTM E2316) | (G) Polyester polyol.
P-16-0462 | 4/17/2019 | Metals Analysis Report Quarter 1 2019 | (G) Ash (residues), reaction products with tetraethoxydioxa-polyheteroatom-disilaalkane.
P-16-0543 | 4/17/2019 | Exposure Monitoring Report | (G) Halogenophosphoric acid metal salt.
P-17-0244 | 4/1/2019 | Guidance Document on Transformation/Dissolution of Metals and Metal Compounds in aqueous media (OECD) | (G) Metal oxide reaction products with cadmium metal selenide sulfide, and amine.
P-18-0293 | 4/10/2019 | Ready Biodegradability: Manomertric Respirometry Test (OECD 301F) | (S) Propanedioic acid, 2-methylene-, 1,3-dihexyl ester.
P-18-0294 | 4/10/2019 | Ready Biodegradability: Manomertric Respirometry Test (OECD 301F) | (S) Propanedioic acid, 2-methylene-, 1,3-dicyclohexyl ester.
P-18-0351 | 4/26/2019 | Gas Chromatography study | (G) Acrylic acid, tricyclo alkyl ester.
P-18-0376 | 4/1/2019 | Reproduction/Developmental Toxicity Screening Test (OECD 421) | (G) Sulfuric acid, aminoalkyl ester.
P-18-0391 | 4/4/2019 | Non-Renewal 96-hour acute toxicity test (OCSPP 850.1075), 48-hour Acute Toxicity Test (OCSPP 850.1010), 96-Hour Algal Toxicity Test (OCSPP 850.4500) | (S) 1-propanaminium, N-(carboxymethyl)-N, N-dimethyl-3-[(3,5, 5-trimethyl-1-oxohexyl), amino]- inner salt.
P-19-0029 | 4/5/2019 | Freshwater Alga and Cyanobacteria, Growth Inhibition Test (OECD 201), Daphnia sp., Acute Immobilisation Test (OECD 202), Freshwater Ecotoxicity and Biodegradation Properties of Some Common Ionic Liquids (OECD 201, 202, 301F), and Acute Oral Toxicity—Acute Toxic Class Method (OECD 423) | (S) Phosphonium, tributylethyl-, diethyl phosphate (1:1).
P-19-0054 | 4/17/2019 | P2 Model—Environmental Assessment, MALDI Analysis for NAMW, % Amine Nitrogen for PMN Substance, %P (Phosphorus) | (G) Polyamines, reaction products with succinic anhydride polyalkenyl derivs., metal salts, polyamines, reaction products with succinic anhydride, polyalkenyl derivs., metal salts.
P-19-0071 | 4/25/2019 | Mammalian Chromosome Aberration Test (OECD 473), Bacterial Reverse Mutation Test (OECD 471), In Vitro Mammalian Cell Gene Mutation Tests Using the Thymidine Kinase Gene (OECD 490) | (G) Trimethylolpropane, alkenoic acid, triester.

If you are interested in information that is not included in these tables, you may contact EPA's technical information contact or general information contact as described under FOR FURTHER INFORMATION CONTACT to access additional non-CBI information that may be available.

Authority: 5 U.S.C. 2601 et seq.

Dated: June 26, 2019.
Megan Carroll,
Acting Director, Information Management Division, Office of Pollution Prevention and Toxics.

[FR Doc. 2019-14273 Filed 7-3-19; 8:45 am]

BILLING CODE 6560-50-P